DEPARTMENT OF COMMERCE

Bureau of Industry and Security

[Docket No. 211013-0208]

RIN 0694-XC077

Notice of Virtual Forum for Risks in the Information Communication Technology Supply Chain

AGENCY: Bureau of Industry and Security, Office of Technology Evaluation, U.S. Department of Commerce.

ACTION: Notice of virtual forum.

SUMMARY: The Bureau of Industry and Security (BIS) is announcing a virtual forum that will occur on October 29, 2021, and that will allow participants to provide recommendations to strengthen the resiliency of critical supply chains supporting the U.S. information and communications technology (ICT) industrial base that are at risk of disruption, strain, compromise, or elimination. See Background for the definition of ICT industrial base. This notice sets forth the procedures for public participation in the virtual forum.

DATES:

Virtual forum: The virtual forum will be held on October 29, 2021. The virtual forum will begin at 9:00 a.m. Eastern Daylight Time (EDT) and conclude at 12:00 p.m. EDT. Registration for the virtual forum: Requests to attend the virtual forum must be submitted by 5:00 p.m. EDT on October 27, 2021. Speaker requests must be submitted by 5:00 p.m. EDT on October 22, 2021. See the ADDRESSES section of this notice for more information regarding registration. Registration for the virtual forum will open on October 14, 2021.

Confirmation of registration and/or speaking slot: The Department will contact each person that has been confirmed to provide oral comments in the virtual forum by email no later than 5:00 p.m. EDT on October 26, 2021.

ADDRESSES: BIS has created a web page on the BIS website for the virtual forum. This web page will be used by the public to register for the virtual forum, including submitting requests to speak at the virtual forum. The landing page for the virtual forum will be accessed through this web page on https://www.bis.doc.gov/ictforum.

Click on the link for `Register for the Virtual Forum' on this web page to register for the virtual forum. People interested in providing oral statements during the virtual forum should make this request when registering for the virtual forum, including submitting a brief overview of their anticipated remarks.

After registration is completed by the Department, this web page will include the agenda and the list of the scheduled speakers for the virtual forum. Registered attendees will receive an email notification from BIS with information needed to access the virtual forum on October 28, 2021. Registrants that requested to provide oral comments at the virtual forum will be notified by email if their request has been accepted and will be provided the allotted amount of time for their comments at the virtual forum. Anyone not selected to make a presentation may provide written comments and submit those in response to the notice of request for public comments entitled Risks in the Information Communications Technology Supply Chain (86 FR 52127) (September 20 Notice) by the comment deadline of November 4, 2021. See the September 20 Notice for instructions on submitting written comments. Participants should be prepared to attend the virtual forum in its entirety as allotted speaker time slots are subject to change and the program will continue if a speaker is not available when called to speak. Within 7 business days after the virtual forum is completed, BIS will add a link to a recording of the virtual forum and a written transcript to make the recording physically accessible to people with disabilities.

FOR FURTHER INFORMATION CONTACT: Erika Maynard, Defense Industrial Base Division, Office of Technology Evaluation, Bureau of Industry and Security, at 202-482-5572 or ICTstudy@bis.doc.gov.

SUPPLEMENTARY INFORMATION:

Background

On February 24, 2021, President Biden issued Executive Order 14017, “America's Supply Chains” (86 FR 11849) (E.O. 14017), which directs several Federal agency actions to secure and strengthen America's supply chains. E.O. 14017 focuses on the need for resilient, diverse, and secure supply chains to ensure U.S. economic prosperity and national security. Such supply chains are needed to address conditions that can reduce U.S. critical manufacturing capacity, as well as the availability and integrity of critical goods, products, and services. In relevant part, E.O. 14017 directs that within one year of the date of the order, the Secretary of Commerce and the Secretary of Homeland Security, in consultation with the heads of appropriate agencies, shall submit a report to the President, through the Assistant to the President for National Security Affairs (APNSA) and the Assistant to the President for Economic Policy (APEP), on supply chains for critical sectors and subsectors of the ICT industrial base (as determined by the Secretary of Commerce and the Secretary of Homeland Security), including the industrial base for the development of ICT software, data, and associated services.

On September 20, 2021, BIS published a notice of request for public comments, Risks in the Information Communications Technology Supply Chain (86 FR 52127) (the September 20 Notice). The September 20 Notice requests comments and information from the public to assist the Department of Commerce (the Department) in preparing the report required by E.O. 14017.

In developing this report, the Secretary of Commerce and the Secretary of Homeland Security will consult with the heads of appropriate agencies and will be advised by all relevant bureaus and components of the Departments of Commerce and Homeland Security.

BIS is publishing this notice to announce a virtual forum that will occur on October 29, 2021, that will allow selected speakers to address the policy objectives listed in E.O. 14017 including recommendations to strengthen the resiliency of critical supply chains supporting the U.S. ICT industrial base that are at risk of disruption, strain, compromise or elimination. For the purposes of the report, the scope of the ICT industrial base shall consist of component hardware that enables terrestrial distribution, broadcast/wireless transport, satellite support, data storage to include data center and cloud technologies, and end user devices including home devices such as routers, antennae, and receivers, and mobile devices; and software and services that have direct dependencies on one or more of the enabling hardware. Examples of component hardware include printed circuit boards and fiber optic cables, electronic manufacturing services and assembly, and downstream products such as networking devices and radio base stations. BIS is particularly interested in recommendations to strengthen the critical supply chains of the ICT industrial base as defined in the report. This notice sets forth the procedures for public participation in the virtual forum.

Virtual Forum

Consistent with the interest of the Department in soliciting public comments on issues affecting risks in the manufacturing of ICT products and critical supply chains as described in the September 20 Notice, the Department is holding a virtual forum. The virtual forum will assist the Department in preparing the report required by E.O. 14017. Oral comments at the virtual forum should address the policy objectives listed in E.O. 14017 as they affect the U.S. ICT supply chains, including recommendations to strengthen critical, at-risk supply chains. See the September 20 Notice and E.O. 14017 for the policy objectives. The virtual forum will be held on October 29, 2021. The forum will begin at 9:00 a.m. EDT and conclude at 12:00 p.m. EDT.

Procedure for Requesting Participation

See the ADDRESSES section of this notice for how to register and access the virtual forum. The Department encourages interested public participants to present their views orally at the virtual forum. Any person wishing to make an oral presentation at the virtual forum must register with the Department at the web address indicated in the ADDRESSES section of this notice. The request to speak in the virtual forum must be accompanied by an overview of the oral presentation. Speakers' registration, including overviews of planned remarks, must be received by the Department no later than 5:00 p.m. EDT on October 22, 2021. BIS will not accept any registrations after that time for the virtual forum.

Please note that the submission of overviews of presentations at the virtual forum is separate from the request for written comments described in the September 20 Notice. Since it may be necessary to limit the number of persons making presentations, the overview of the presentation should describe the individual's interest in the virtual forum and, where appropriate, explain why the individual is a proper representative of a group or class of persons that has such an interest. If all interested parties cannot be accommodated at the virtual forum, the overviews of the oral presentations will be used to allocate speaking time and to ensure that a full range of comments is heard.

Each person selected to make a presentation will be notified by the Department no later than 5:00 p.m. EDT on October 26, 2021. The Department will arrange the presentation times for the speakers. Representatives from the Department and other U.S. Government agencies, as appropriate, will make up the virtual forum panel. Written overview submissions by persons not selected to make presentations will be made part of the public record of the proceeding, as will the overview submission of those persons selected to make presentations. Confidential business information may not be submitted at a virtual forum. The virtual forum will be recorded.

Copies of the requests to speak at the virtual forum and the transcript of the forum will be maintained on BIS's web page, which can be found at https://www.bis.doc.gov (see Freedom of Information Act link at the bottom of the page) and at https://www.bis.doc.gov/ictforum. These documents will also be posted through the Federal eRulemaking Portal: https://www.regulations.gov under docket number BIS-2021-0021, which is the docket number for the September 20 Notice. If the requesters cannot access the website, they may call (202) 482-0795 for assistance. The records related to this assessment are made accessible in accordance with the regulations published in part 4 of title 15 of the Code of Federal Regulations (15 CFR 4.1 through 4.11).

Conduct of the Virtual Forum

The Department reserves the right to select the persons to be heard at the virtual forum, to schedule their respective presentations, and to establish the procedures governing the conduct of the virtual forum. Each speaker will be limited to a time set by the Department and comments must be directly related to the policy objectives listed in E.O. 14017 as they affect the U.S. ICT supply chains, including recommendations to strengthen critical, at-risk supply chains.

A Department official will be designated to preside at the virtual forum. The presiding officer shall determine all procedural matters during the virtual forum. Representatives from the Department, and other U.S. Government agencies, as appropriate, will make up the virtual forum panel. This will be a fact-finding proceeding. It will not be a judicial or evidentiary-type virtual forum. Only members of the virtual forum panel may ask questions and there will be no cross-examination of persons presenting statements. No formal rules of evidence will apply to the virtual forum. Any further procedural rules for the proper conduct of the virtual forum will be announced by the presiding officer.

Special Accommodations

This virtual forum is physically accessible to people with disabilities. See the ADDRESSES section of this notice.

Matthew S. Borman,
Deputy Assistant Secretary for Export Administration.

[FR Doc. 2021-22763 Filed 10-14-21; 4:15 pm]

BILLING CODE 3510-33-P